DEPARTMENT OF HOMELAND SECURITY

Coast Guard

[USCG-2005-21472]

Collection of Information Under Review by Office of Management and Budget (OMB): OMB Control Numbers: 1625-0028 (Formerly 2115-0111), 1625-0034 (Formerly 2115-0139), and 1625-0043 (Formerly 2115-0540)

AGENCY: Coast Guard, DHS.

ACTION: Request for comments.

SUMMARY: In compliance with the Paperwork Reduction Act of 1995, the Coast Guard intends to seek the approval of OMB for the renewal of three Information Collection Requests (ICRs). The ICRs are for (1) 1625-0028, Course Approvals for Merchant Marine Training Schools, (2) 1625-0034, Ships' Stores Certification for Hazardous Materials Aboard Ships, and (3) 1625-0043, Ports and Waterways Safety— Title 33 CFR Subchapter P. Before submitting the ICRs to OMB, the Coast Guard is inviting comments on them as described below.

DATES: Comments must reach the Coast Guard on or before September 6, 2005.

ADDRESSES: To make sure that your comments and related material do not enter the docket [USCG-2005-21472] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is (202) 366-9329.

(3) By fax to the Docket Management Facility at (202) 493-2251.

(4) Electronically through the Web site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Ms. Barbara Davis), 2100 Second Street, SW., Washington, DC 20593-0001. The telephone number is (202) 267-2326.

FOR FURTHER INFORMATION CONTACT: Ms. Barbara Davis, Office of Information Management, telephone (202) 267-2326, or fax (202) 267-4814, for questions on these documents; or telephone Ms. Andrea M. Jenkins, Program Manager, Docket Operations, (202) 366-0271, for questions on the docket.

SUPPLEMENTARY INFORMATION: Public participation and request for comments: We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2005-21472], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Course Approvals for Merchant Marine Training Schools.

OMB Control Number: 1625-0028.

Summary: The information is needed to ensure that merchant marine training schools meet minimal statutory requirements. The information is used to approve the curriculum, facility, and faculty for these schools.

Need: Title 46 U.S.C. 7315 authorizes an applicant for a license or document to substitute the completion of an approved course for a portion of the required sea service. Title 46 Code of Federal Regulations 10.302 prescribe the Coast Guard regulations for course approval.

Respondents: Merchant marine training schools.

Frequency: Five years for reporting; one year for recordkeeping.

Burden Estimate: The estimated burden has been increased from 16,988 hours to 27,675 hours a year.

2. Title: Ships' Stores Certification for Hazardous Materials Aboard Ships.

OMB Control Number: 1625-0034.

Summary: The information is needed to ensure that personnel aboard ships are made aware of the proper usage and stowage instructions for certain hazardous materials. Provisions are made for waivers of products in special DOT hazard classes.

Need: Title 46 U.S.C. 3306 authorizes the Coast Guard to prescribe regulations for the transportation, stowage, and use of ships' stores and supplies of a dangerous nature. Title 46 Code of Federal Regulations part 147 prescribe the regulations for hazardous ships' stores.

Respondents: Suppliers and manufacturers of hazardous products used on ships.

Frequency: On occasion.

Burden Estimate: The estimated burden has been increased from 6 hours to 9 hours a year.

3. Title: Ports and Waterways Safety— Title 33 CFR subchapter P.

OMB Control Number: 1625-0043.

Summary: This collection of information allows the master, owner, or agent of a vessel affected by these rules to request deviation from the requirements governing navigation safety equipment to the extent that there is no reduction in safety.

Need: Title 33 CFR Chapter I Subchapter P allows any person directly affected by these rules to request a deviation from any of the requirements as long as it does not compromise safety. This collection enables the Coast Guard to evaluate the information the respondent supplies, to determine whether it justifies the request for a deviation.

Respondents: Master, owner, or agent of a vessel.

Frequency: On occasion.

Burden Estimate: The estimated burden has been increased from 2,929 hours to 3,171 hours a year.

Dated: June 21, 2005.
Sherry Richardson,
Acting, Assistant Commandant for Command, Control, Communications, Computers and Information Technology.

[FR Doc. 05-13127 Filed 7-1-05; 8:45 am]

BILLING CODE 4910-15-P